DEPARTMENT OF THE INTERIOR

Bureau of Land Management

[NM-952-06-1420-BJ]

Notice of Filing of Plats of Survey; NM

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey and subdivision of sections in Township 7 North, Range 10 West, accepted April 24, 2006, for Group 1032 New Mexico.

The plat representing the dependent resurvey and subdivision of sections for Township 9 North, Range 4 West, accepted July 20, 2006 for Group 1048 New Mexico.

The plat representing the dependent resurvey and survey of certain Lots in Section 10 (Including The Retracement of a portion of the West Boundry of San Miguel Del Bado Grant, Tract 2 and portions of the subdivisional lines) for Township 13 North, Range 14 West, accepted July 21, 2006 for Group 1049 New Mexico.

The plat representing the dependent resurvey for Township 29 North, Range 11 West, accepted August 7, 2006 for Group 1053 New Mexico.

The plat representing the resurvey and subdivision of sections for Township 7 North, Range 9 West, accepted July 24, 2006 for Group 1041 New Mexico.

The Town of Tejon Grant and San Antonio De Las Huertas Grant, representing the corrective resurvey, dependent resurvey and survey accepted July 21, 2006 for New Mexico.

Indian Meridian, Oklahoma

The plat in two sheets, representing the dependent resurvey and survey for Township 9 North, Range 14 East, accepted May 9, 2006 for Group 116 Oklahoma.

Sixth Principle Meridian, Kansas

The supplemental plat, representing the subdivision of sections for Township 33 South, Range 40 West, accepted July 24, 2006, for Kansas.

The supplemental plat, representing the subdivision of sections for Township 33 South, Range 41 West, accepted July 24, 2006, for Kansas.

The supplemental plat, representing the subdivision of sections for Township 34 South, Range 41 West, accepted July 24, 2006, for Kansas.

The supplemental plat, representing the subdivision of sections for Township 34 South, Range 40 West, accepted July 24, 2006, for Kansas.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, and P.O. Box 27115, Santa Fe, New Mexico 87502-0115. Copies may be obtained from this office upon payment of $1.10 per sheet.

Dated: July 8, 2006.
Stephen W. Beyerlein,
Acting Chief Cadastral Surveyor, New Mexico.

[FR Doc. 06-6972 Filed 8-16-06; 8:45 am]

BILLING CODE 4310-FB-P